DEPARTMENT OF HEALTH AND HUMAN SERVICES

Administration for Children and Families

Proposed Information Collection Activity; Comment Request

Title: Subsidized and Transitional Employment Demonstration (STED) and Enhanced Transitional Jobs Demonstration (ETJD).

OMB No.: 0970-0413.

Description: The Administration for Children and Families (ACF) within the U.S. Department of Health and Human Services (HHS) is conducting national evaluation called the Subsidized and Transitional Employment Demonstration (STED). At the same time, the Employment and Training Administration (ETA) within the Department of labor (DOL) is conducting an evaluation of the Enhanced Transitional Jobs Demonstration (ETJD). These evaluations will inform the Federal government about the effectiveness of subsidized and transitional employment programs in helping vulnerable populations secure unsubsidized jobs in the labor market and achieve self-sufficiency. The projects will evaluate twelve subsidized and transitional employment programs nationwide.

ACF and ETA are collaborating on the two evaluations. In 2011, ETA awarded grants to seven transitional jobs programs as part of the ETJD, which is testing the effect of combining transitional jobs with enhanced services to assist ex-offenders and noncustodial parents improve labor market outcomes, reduce criminal recidivism and improve family engagement.

The STED and ETJD projects have complementary goals and are focusing on related program models and target populations. Thus, ACF and ETA have collaborated on the design of data collection instruments to promote consistency across the projects. In addition, two of the seven DOL-funded ETJD programs are being evaluated as part of the STED project. ACF is submitting information collection requests on behalf of both collaborating agencies.

Data for the study will be collected from the following three major sources. All data collection described below, other than the 30-month follow-up survey, has been reviewed and approved by OMB (see OMB #0970-0413):

Baseline Forms. Each respondent will be asked to complete three forms upon entry into the study: (1) An informed consent form; (2) a contact sheet, which will help locate the respondent for follow-up surveys; and (3) a baseline information form, which will collect demographic data and information on the respondent's work and education history.

Follow-Up Surveys. Follow-up telephone surveys will be conducted with all participants. There will be three follow-up surveys in each of the STED and ETJD sites (including the two sites that are also part of ETJD), approximately 6, 12, and 30 months after study entry.

Implementation Research and Site Visits. Data on the context for the programs and their implementation is collected during two rounds of site visits to each of the twelve sites, including interviews, focus groups, observations, and case file reviews. These data will be supplemented by short questionnaires for program staff, clients, worksite supervisors, and participating employers, as well as a time study for program staff.

This notice is specific to the request for approval of the 30-month survey, which will measure the differences in employment, wage progression, income, and other outcomes between the program groups and similar group of respondents who were randomly assigned to a control group. The information collection request will also include increased burden hours to include additional respondents. This increase is a result of the actual enrollment numbers at recruited sites.

Respondents: Study participants in the treatment and control groups.

Annual Burden Estimates—New Instrument
Instrument | Total number of respondents | Annual number of respondents | Number of responses per respondent | Average burden hour per response | Total annual burden hours ¹
Participant 30-month survey | 11,840 | 3,947 | 1 | .5 | 1,974

Annual Burden Estimates—Changes to Estimated Number of Respondents
[Instruments previously approved]
Previously approved instrument | Updates to total number of respondents | Updates to annual number respondents | Number of responses per respondent | Average burden hour per response | Updated annual burden hours ¹
Participant Contact Information Form (5 STED sites) | 2800 additional respondents | 933 | 1 | .08 | 75
Participant Baseline Information Form (5 STED sites) | 2800 additional respondents | 933 | 1 | .17 | 159
Participant STED tracking letters | 2178 additional respondents | 726 | 5 | .05 | 182
Participant 6-month survey (Adult sites) | 960 additional respondents | 320 | 1 | .5 | 160
Participant 6-month survey (Young Adult sites) | 960 fewer respondents | −320 | 1 | .5 | −160
Participant 12-month survey (Adult sites) | 1440 additional respondents | 480 | 1 | .75 | 360
Participant 12-month survey (Young Adult sites) | 800 additional respondents | 267 | 1 | .75 | 200
Increase in Est. Annual Burden Hours for Previously Approved ICs: 976.

In compliance with the requirements of Section 3506(c)(2)(A) of the Paperwork Reduction Act of 1995, the Administration for Children and Families and the Employment and Training Administration are soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agencies, including whether the information shall have practical utility; (b) the accuracy of the agencies' estimate of the burden of the proposed collection of information; (c) the quality, utility, and clarity of the information to be collected; and (d) ways to minimize the burden of the collection of information on respondents, including through the use of automated collection techniques or other forms of information technology. Consideration will be given to comments and suggestions submitted within 60 days of this publication.

Karl Koerper,
Reports Clearance Officer.

[FR Doc. 2014-06937 Filed 3-27-14; 8:45 am]

BILLING CODE 4184-09-P